DEPARTMENT OF TRANSPORTATION [4910-RY]

Federal Highway Administration

Notice of Final Federal Agency Actions on Proposed CSX Railway Tunnel Project in Washington, District of Columbia

AGENCY: Federal Highway Administration (FHWA), DOT.

ACTION: Notice of Limitation on Claims for Judicial Review of Actions by FHWA and Other Federal Agencies.

SUMMARY: This notice announces actions taken by the FHWA that are final within the meaning of 23 U.S.C. 139(l)(1). The actions relate to a proposed CSX Transportation, Inc. (CSX) Virginia Avenue Tunnel Project in Washington, DC. Those actions grant approvals for the project.

DATES: By this notice, the FHWA is advising the public of final agency actions subject to 23 U.S.C. 139(l)(1). A claim seeking judicial review of the Federal agency actions on the highway project will be barred unless the claim is filed on or before April 20, 2015. If the Federal law that authorizes judicial review of a claim provides a time period of less than 150 days for filing such claim, then that shorter time period still applies.

FOR FURTHER INFORMATION CONTACT: Mr. Michael Hicks, Environmental/Urban Engineer, 1990 K Street, Suite 510, Washington, DC 20006-1103, (202) 219-3513; email: Michael.Hicks@dot.gov. The FHWA District of Columbia Division normal business hours are 8 a.m. to 4:30 p.m. (Eastern Time). You may also contact Mr. Faisal Hameed, Deputy Chief Engineer, Project Development & Environment, Infrastructure Project Management Administration (IPMA), District Department of Transportation, 55 M Street SE., Suite 500, Washington, DC 20003; telephone: 202-671-2326; email: Faisal.Hameed@dc.gov. The District Department of Transportation normal business hours are 8:15 a.m. to 4:45 p.m.

SUPPLEMENTARY INFORMATION: Notice is hereby given that the FHWA has taken final action by issuing a Record of Decision concerning approvals for the Virginia Avenue Tunnel Reconstruction Project in the District of Columbia. CSX, the owner of the Virginia Avenue Tunnel, requested approval from FHWA to allow the short-term closure of I-695 ramps located at 6th and 8th Streets SE and occupancy of a portion of the 11th Street Bridge right-of-way located on Interstate 695 (I-695) to allow the reconstruction of the Virginia Avenue Tunnel. The tunnel is located in the Capitol Hill neighborhood of Washington, DC beneath eastbound Virginia Avenue SE from 2nd Street SE to 9th Street SE; Virginia Avenue Park between 9th and 11th Streets; and the 11th Street Bridge right-of-way. The tunnel is also aligned on the south side of I-695.

The approval actions by FHWA and the laws under which such actions were taken are described in the Draft Environmental Impact Statement approved on July 2, 2013, the Final Environmental Statement approved on June 5, 2014, and in the FHWA Record of Decision (ROD) issued on November 4, 2014, and in other documents in the FHWA administrative record. The actions were also based on the DEIS public hearing held on July 31, 2013; public meetings held on September 14, 2011, November 30, 2011, May 21, 2012, September 27, 2012, July 1, 2014 and July 31, 2014; and public and agency comments. The FEIS, ROD, and other documents in the FHWA administrative record file are available by contacting the FHWA, or DDOT, at the addresses provided above. The FEIS and ROD can also be viewed and downloaded from the project Web site at www.virginiaavenuetunnel.com or viewed at the following locations: Southeast Neighborhood Library, 403 7th Street SE., Washington, DC 20003; or the Southwest Neighborhood Library, 900 Wesley Place SW., Washington, DC 20024.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Hazardous Materials: Comprehensive Environmental Response, Compensation, and Liability Act (CERCLA), 42 U.S.C. 9601-9675.

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued On: November 12, 2014.
Joseph C. Lawson,
Division Administrator, District of Columbia.

[FR Doc. 2014-27468 Filed 11-20-14; 8:45 am]

BILLING CODE P